DEPARTMENT OF COMMERCE

International Trade Administration

[A-570-875]

Non-Malleable Cast Iron Pipe Fittings from the People's Republic of China: Final Results of Antidumping Duty Administrative Review

AGENCY: Import Administration, International Trade Administration, Department of Commerce.

SUMMARY: On April 27, 2007, the Department of Commerce (“the Department”) published in the Federal Register the preliminary results of the administrative review of the antidumping duty order on non-malleable cast iron pipe fittings from the People's Republic of China (“PRC”). This review covers two manufacturers/exporters: Myland Industrial Co., Ltd. (“Myland”) and Buxin Myland (Foundry) Ltd. (“Buxin”).

We provided interested parties with an opportunity to comment on the preliminary results of review. We received no comments from interested parties. Therefore, we have made no changes to the weighted-average dumping margins determined for Myland and Buxin in the final results of this administrative review.

EFFECTIVE DATE: July 13, 2007.

FOR FURTHER INFORMATION CONTACT: Karine Gziryan and Mark Manning, AD/CVD Operations, Office 4, Import Administration, International Trade Administration, U.S. Department of Commerce, 14th Street and Constitution Avenue, NW, Washington, DC 20230; telephone: (202) 482-4081 and (202) 482-5253, respectively.

SUPPLEMENTARY INFORMATION:

Background

On April 27, 2007, the Department published in the Federal Register the preliminary results of the administrative review of the antidumping duty order on non-malleable cast iron pipe fittings from the People's Republic of China. See Non-Malleable Cast Iron Pipe Fittings from the People's Republic of China: Preliminary Results of Antidumping Duty Administrative Review, 72 FR 20990 (April 27, 2007) (“Preliminary Results”). In the Preliminary Results we found that Myland and Buxin withheld critical information needed for the Department's separate rate analysis and margin calculation, significantly impeded the review, and provided information that could not be verified, as provided by section 782(i) of the Tariff Act of 1930, as amended (“the Act”). Therefore, pursuant to sections 776(a)(2)(A), (C), and (D) of the Act, the Department preliminarily determined to apply facts available to Myland and Buxin. Because Myland and Buxin do not qualify for a separate rate they became a part of the PRC-wide entity, subject to the PRC-wide rate, in this segment of the proceeding. The Department reviewed the single PRC-wide entity, including Myland and Buxin, and preliminarily determined to apply the total adverse facts available (“AFA”) rate of 75.50 percent to exports of the subject merchandise from the PRC-wide entity, including Myland and Buxin. See Preliminary Results. No interested parties filed case briefs in response to the Department's invitation to comment on the Preliminary Results.

Scope of the Order

The products subject to this administrative review are finished and unfinished non-malleable cast iron pipe fittings with an inside diameter ranging from 1/4 inch to 6 inches, whether threaded or un-threaded, regardless of industry or proprietary specifications. The subject fittings include elbows, ells, tees, crosses, and reducers as well as flanged fittings. These pipe fittings are also known as “cast iron pipe fittings” or “gray iron pipe fittings.” These cast iron pipe fittings are normally produced to ASTM A-126 and ASME B.l6.4 specifications and are threaded to ASME B1.20.1 specifications. Most building codes require that these products are Underwriters Laboratories (“UL”) certified. The scope does not include cast iron soil pipe fittings or grooved fittings or grooved couplings.

Fittings that are made out of ductile iron that have the same physical characteristics as the gray or cast iron fittings subject to the scope above or which have the same physical characteristics and are produced to ASME B.16.3, ASME B.16.4, or ASTM A-395 specifications, threaded to ASME B1.20.1 specifications and UL certified, regardless of metallurgical differences between gray and ductile iron, are also included in the scope of the order. These ductile fittings do not include grooved fittings or grooved couplings. Ductile cast iron fittings with mechanical joint ends (“MJ”), or push on ends (“PO”), or flanged ends and produced to the American Water Works Association (“AWWA”) specifications AWWA C110 or AWWA C153 are not included.

Imports of subject merchandise are currently classifiable in the Harmonized Tariff Schedule of the United States (“HTSUS”) under item numbers 7307.11.00.30, 7307.11.00.60, 7307.19.30.60 and 7307.19.30.85. HTSUS subheadings are provided for convenience and customs purposes. The written description of the scope of this proceeding is dispositive.

Period of Review

The period of review is April 1, 2005, through March 31, 2006.

Final Results of Review

We determine that the following weighted-average percentage margin exists for the period April 1, 2005, through March 31, 2006:

Manufacturer/Exporter | Margin (percent)
PRC-Wide Entity (including Myland Industrial Co., Ltd., and Buxin Myland (Foundry) Ltd.) | 75.50

Assessment

The Department will determine, and U.S. Customs and Border Protection (“CBP”) shall assess, antidumping duties on all appropriate entries. For these final results, the PRC-wide entity, including Myland and Buxin, received a dumping margin based upon total AFA. We will, therefore, instruct CBP to liquidate entries manufactured or exported by the PRC-wide entity, Myland and Buxin, according to the AFA ad valorem rate listed above. The Department intends to issue assessment instructions to CBP 15 days after the date of publication of these final results of review.

Cash Deposit Requirements

The following cash deposit requirements will be effective upon publication of this notice of final results of administrative review for all shipments of non-malleable cast iron pipe fittings from the PRC entered, or withdrawn from warehouse, for consumption on or after the date of publication, as provided by section 751(a)(1) of the Act: (1) the cash deposit rate for Myland and Buxin will be the PRC-wide entity rate shown above; (2) for previously investigated companies not listed above, which received a separate rate in a prior segment of the proceeding, the cash deposit rate will continue to be the company-specific rate published for the most recent period; (3) the cash deposit rate for all other PRC exporters will be the PRC-wide entity rate of 75.50 percent; and (4) the cash deposit rate for all non-PRC exporters, which have not received their own rate, will be the rate applicable to the PRC exporter that supplied that non-PRC exporter. These cash deposit requirements, when imposed, shall remain in effect until further notice.

Administrative Protective Orders

This notice also serves as a reminder to parties subject to an administrative protective order (“APO”) of their responsibility concerning the return or destruction of proprietary information disclosed under APO in accordance with section 351.305 of the Department's regulations, which continues to govern business proprietary information in this segment of the proceeding. Timely written notification of the return/destruction of APO materials or conversion to judicial protective order is hereby requested. Failure to comply with the regulations and terms of an APO is a violation that is subject to sanction.

Notification to Importers

This notice serves as a final reminder to importers of their responsibility under section 351.402(f)(2) of the Department's regulations to file a certificate regarding the reimbursement of antidumping duties prior to liquidation of the relevant entries during this review period. Failure to comply with this requirement could result in the Secretary's presumption that reimbursement of antidumping duties occurred and the subsequent assessment of double antidumping duties.

These final results of administrative review are in accordance with sections 751(a)(1) and 777(i) of the Act.

Dated: July 6, 2007.
David M. Spooner,
Assistant Secretary for Import Administration.

[FR Doc. E7-13655 Filed 7-12-07; 8:45 am]

BILLING CODE 3510-DS-S